DEPARTMENT OF HEALTH AND HUMAN SERVICES

Centers for Disease Control and Prevention

[30Day-25-0891]

Agency Forms Undergoing Paperwork Reduction Act Review

In accordance with the Paperwork Reduction Act of 1995, the Centers for Disease Control and Prevention (CDC) has submitted the information collection request titled “World Trade Center Health Program Enrollment, Appeals & Reimbursement” to the Office of Management and Budget (OMB) for review and approval. CDC previously published a “Proposed Data Collection Submitted for Public Comment and Recommendations” Notice on November 4, 2024 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

World Trade Center Health Program Enrollment, Appeals & Reimbursement (OMB Control No. 0920-0891, Exp. 09/30, 2025)—Revision—National Institute for Occupational Safety and Health (NIOSH), Centers for Disease Control and Prevention (CDC).

Background and Brief Description

The National Institute for Occupational Safety and Health (NIOSH) seeks OMB approval for a Revision of an ongoing Information Collection Request (ICR) titled World Trade Center Health Program Enrollment, Appeals & Reimbursement (OMB Control No. 0920-0891, Exp. 09/30/2025). In accordance with the James Zadroga 9/11 Health and Compensation Act of 2010, individuals newly seeking enrollment in the WTC Health Program as responders or survivors may apply to the Program. The recently passed National Defense Authorization Act for Fiscal Year 2024 (NDAA) also expands Program enrollment eligibility for Pentagon and Shanksville responders.

Title I of the Zadroga Act (Pub. L. 111-347, as amended by Pub. L. 114-113 and Pub. L. 116-59), added Title XXXIII to the Public Health Service Act (PHS Act), establishing the World Trade Center (WTC) Health Program within the Department of Health and Human Services (HHS). The Director of NIOSH serves as the Administrator of the WTC Health Program for most purposes, with certain payment functions carried out by the Centers for Medicare & Medicaid Services. As established by the Zadroga Act, the WTC Health Program is a Federal limited benefit health care program providing medical monitoring and treatment benefits to eligible firefighters and related personnel, law enforcement officers, and rescue, recovery, and cleanup workers who responded to the September 11, 2001, attacks in New York City, at the Pentagon, and in Shanksville, Pennsylvania (responders). The program is also eligible to persons who were present in the dust or dust cloud on September 11, 2001, or who worked, resided, or attended school, childcare, or adult daycare in the New York City disaster area (survivors). The WTC Health Program has been authorized for 75 years (through 2090).

In this Revision, NIOSH requests OMB approval for the revised WTC Health Program Pentagon/Shanksville Application for Enrollment, to include language regarding the expanded eligibility criteria mandated by the National Defense Authorization Act (NDAA) for Fiscal Year 2024 as well as a new web-based Youth Research Cohort (YRC) Registration portal that will be used to engage future cohort members and allow them to self-enroll into the YRC.

In This Revision

The greatest increase in burden (+3,000 hours) is the result of the new secure, public-facing web-based portal for the YRC. In December 2022, the Consolidated Appropriations Act, 2023 (Pub. L. 117-328), amended section 3341 of the PHS Act to direct the Administrator to establish a new cohort for future research. This portal has been developed to engage with future cohort members and streamline the enrollment process into the YRC. By implementing this web-based portal, it will maintain the privacy and data protection of future cohort members in accordance with the provisions of the Health Insurance Portability and Accountability Act of 1996 (HIPAA) and HIPAA regulations.

Another increase in annualized burden (+250 hours) is, due to the recent NDAA, eligibility for the Program has expanded for Pentagon and Shanksville responders. The Program has updated the WTC Health Program Pentagon/Shanksville Application for Enrollment to reflect the new eligibility criteria mandated by the NDAA. The revised application now includes an additional eligibility question targeting specific groups such as active duty, retired, or reserve members of the military, civilian employees of the Department of Defense (DOD), or certain DOD contractors who responded to the Pentagon or Shanksville sites. The application also now clarifies that in addition to the work status, the responder must have participated in rescue, recovery, demolition, debris cleanup, or other related services in order to be eligible to enroll in the Program. This may increase the amount of Pentagon and Shanksville responders who may be eligible and reduce confusion.

The total annualized burden hours requested is expected to increase from 12,882 to 14,332 hours. There is no cost to respondents other than their time.

Estimated Annualized Burden Hours
Type of respondent | Form name | Number of respondents | Number of responses per respondent | Average burden per response (in hours)
FDNY Responder | World Trade Center Health Program FDNY Responder Application for Enrollment | 140 | 1 | 30/60
General Responder | World Trade Center Health Program Responder Application for Enrollment (Other than FDNY) | 6,215 | 1 | 30/60
Pentagon/Shanksville Responder | World Trade Center Health Program Pentagon/Shanksville Responder Application for Enrollment | 742 | 1 | 30/60
WTC Survivor | World Trade Center Health Program Survivor Application for Enrollment (all languages) | 9,240 | 1 | 30/60
General responder | Clinic Selection Postcard for new general responders in NY/NJ to select a clinic | 3,830 | 1 | 15/60
Interested Party | Petition for the addition of health conditions | 35 | 1 | 1
Program Applicants or Members | Designated Representative Appointment Form | 1,300 | 1 | 15/60
Program Applicants or Members | Designated Representative HIPAA Release Form to allow the sharing of member information with a third party | 1,300 | 1 | 15/60
General Public | WTC Health Program HIPAA Authorization for Deceased Individuals | 30 | 1 | 15/60
Program Applicants or Members | WTC Health Program General HIPAA Authorization to Third Parties | 30 | 1 | 15/60
Program Applicants or Members | Designated Representative Appointment Form that removes the members current designated representative | 15 | 1 | 15/60
Youth Research Cohort Enrollees | Youth Research Cohort Registration Portal | 6,000 | 1 | 30/60

Jeffrey M. Zirger,
Lead, Information Collection Review Office, Office of Public Health Ethics and Regulations, Office of Science, Centers for Disease Control and Prevention.

[FR Doc. 2025-03365 Filed 2-27-25; 8:45 am]

BILLING CODE 4163-18-P